DEPARTMENT OF LABOR

Employment and Training Administration

[TA-W-53,515D]

Thomasville Furniture Industries, Inc., Plant E, Thomasville, North Carolina; Notice of Termination of Investigation

Pursuant to Section 221 of the Trade Act of 1974, as amended, an investigation was initiated on November 13, 2003 in response to a petition filed by a company official on behalf of workers of Thomasville Furniture Industries, Inc., Plant E, Thomasville, North Carolina (TA-W-53,515D).

The petitioning group of workers is covered by an active certification issued on March 10, 2003, and which remains in effect (TA-W-50,150A). Consequently, further investigation in this case would serve no purpose, and the investigation has been terminated.

Signed at Washington, DC, this 13th day of January 2004.
Linda G. Poole,
Certifying Officer, Division of Trade Adjustment Assistance.

[FR Doc. 04-3006 Filed 2-10-04; 8:45 am]

BILLING CODE 4510-30-U